DEPARTMENT OF DEFENSE

Office of the Secretary

[Docket ID: DoD-2022-OS-0118]

Submission for OMB Review; Comment Request

AGENCY: Defense Counterintelligence and Security Agency (DCSA), Department of Defense (DoD).

ACTION: 30-Day information collection notice.

SUMMARY: The DoD has submitted to the Office of Management and Budget (OMB) for clearance the following proposal for collection of information under the provisions of the Paperwork Reduction Act.

DATES: Consideration will be given to all comments received by January 26, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: FOCI Outside Director/Proxy Holder Nomination Questionnaires; OMB Control Number 0705-0005.

Type of Request: Revision.

Number of Respondents: 250.

Responses per Respondent: 1.

Annual Responses: 250.

Average Burden per Response: 45 minutes.

Annual Burden Hours: 188.

Needs and Uses: This information collection is necessary for DCSA to provide proper monitoring and oversight of companies with Foreign Ownership, Control, or Influence (FOCI) while those companies provide services on a U.S. government contract. In order to mitigate foreign ownership risks, DCSA approves the nomination of Outside Director/Proxy Holder(s) (OD/PH) for specified companies when the mitigation strategy requires their appointment. The OD/PH will be a cleared U.S. citizen, disinterested in the company and its shareholder, who can exercise management prerogative to ensure the foreign owner is effectively insulated from controlling or influencing the management or business of the cleared company in a manner that could affect its performance on classified contracts. DCSA must collect information from both the company officials nominating individuals for the OD/PH role, as well as the nominees themselves. This information is necessary to verify that all nominated OD/PH are capable of performing their duties effectively at the time of nomination and understand their responsibility in serving an OD/PH role. It also helps DCSA ensure that the FOCI boards are effective in fulfilling their national security and fiduciary responsibilities while under FOCI mitigation. DCSA authority for this information collection can be found in 32 CFR 117, the National Industrial Security Program Operating Manual Rule, which, in part, describes how cleared contractors under FOCI must operate to possess a facility clearance.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: December 20, 2022.
Aaron T. Siegel,
Alternate OSD Federal Register Liaison Officer, Department of Defense.

[FR Doc. 2022-28040 Filed 12-23-22; 8:45 am]

BILLING CODE 5001-06-P